ENVIRONMENTAL PROTECTION AGENCY

[FRL-9093-1; Docket ID No. EPA-HQ-ORD-2009-0115]

Draft Toxicological Review of 1,1,2,2-Tetrachloroethane: In Support of Summary Information on the Integrated Risk Information System (IRIS)

AGENCY: Environmental Protection Agency (EPA).

ACTION: Notice of peer-review workshop.

SUMMARY: EPA is announcing that Eastern Research Group, Inc. (ERG), an EPA contractor for external scientific peer review, will convene an independent panel of experts and organize and conduct an external peer-review workshop to review the external review draft document titled, “Toxicological Review of 1,1,2,2-Tetrachloroethane: In Support of Summary Information on the Integrated Risk Information System (IRIS)” (EPA/635/R-09/001). The draft document was prepared by the National Center for Environmental Assessment (NCEA) within EPA's Office of Research and Development. EPA previously announced the 60-day public comment period (ending November 23, 2009) for the draft document in the Federal Register on September 24, 2009 (74 FR 48731). EPA will consider public comments and recommendations from the expert panel workshop as EPA finalizes the draft document.

The public comment period and the external peer-review workshop are separate processes that provide opportunities for all interested parties to comment on the document. EPA intends to forward public comments submitted in accordance with the September 24, 2009, Federal Register notice (74 FR 48731) to ERG, for consideration by the external peer-review panel prior to the workshop.

EPA is releasing this draft document solely for the purpose of pre-dissemination peer review under applicable information quality guidelines. This document has not been formally disseminated by EPA. It does not represent and should not be construed to represent any Agency policy or determination.

ERG invites the public to register to attend this workshop as observers. In addition, ERG invites the public to give oral and/or provide written comments at the workshop regarding the draft document under review. Space is limited, and reservations will be accepted on a first-come, first-served basis. The draft document and EPA's peer-review charge are available primarily via the Internet on NCEA's home page under the Recent Additions and Publications menus at http://www.epa.gov/ncea. In preparing a final report, EPA will consider ERG's report of the comments and recommendations from the external peer-review workshop and any public comments that EPA receives.

DATES: The peer-review panel workshop will begin on Wednesday, January 27, 2010, at 8:30 a.m., and will end at approximately 4 p.m. Eastern Standard Time.

ADDRESSES: The peer-review workshop will be held at the Holiday Inn Capitol, 550 C Street, SW., Washington, DC 20024. The EPA contractor, ERG, is organizing, convening, and conducting the peer-review workshop. To attend the workshop, register by Wednesday, January 20, 2010, by calling ERG at 781-674-7374 or toll free at 800-803-2833 (ask for the 1,1,2,2-Tetrachloroethane peer-review coordinator, Laurie Waite), sending a facsimile to 781-674-2906 (please reference: “1,1,2,2-Tetrachloroethane peer-review workshop” and include your name, title, affiliation, full address, and contact information), or sending an e-mail to meetings@erg.com (subject line: “1,1,2,2-Tetrachloroethane peer-review workshop” and include your name, title, affiliation, full address, and contact information). You may also register via the Internet at https://www2.ergweb.com/projects/conferences/peerreview/register-tetraworkshop.htm.

The draft “Toxicological Review of 1,1,2,2-Tetrachloroethane: In Support of Summary Information on the Integrated Risk Information System (IRIS)” is available primarily via the Internet on the National Center for Environmental Assessment's home page under the Recent Additions and Publications menus at http://www.epa.gov/ncea. A limited number of paper copies are available from the Information Management Team, NCEA; telephone: 703-347-8561; facsimile: 703-347-8691. If you are requesting a paper copy, please provide your name, mailing address, and the document title, “Toxicological Review of 1,1,2,2-Tetrachloroethane: In Support of Summary Information on the Integrated Risk Information System (IRIS).” Copies are not available from ERG.

Information on Services for Individuals with Disabilities: EPA welcomes public attendance at the “1,1,2,2-Tetrachloroethane peer-review workshop” and will make every effort to accommodate persons with disabilities. For information on access or services for individuals with disabilities, please contact ERG, 110 Hartwell Avenue, Lexington, MA 02421-3136; telephone: 781-674-7374; facsimile: 781-674-2906; or e-mail: meetings@erg.com (subject line: 1,1,2,2-Tetrachloroethane peer-review workshop), preferably at least 10 days prior to the meeting, to give as much time as possible to process your request.

FOR FURTHER INFORMATION CONTACT: Questions regarding information, registration, access or services for individuals with disabilities, or logistics for the external peer-review workshop should be directed to ERG, 110 Hartwell Avenue, Lexington, MA 02421-3136; telephone: 781-674-7374; facsimile: 781-674-2906; or e-mail: meetings@erg.com (subject line: 1,1,2,2-Tetrachloroethane peer-review workshop).

If you have questions about the document, please contact Martin Gehlhaus, National Center for Environmental Assessment (NCEA), 1200 Pennsylvania Ave, NW., 8601P, Washington, DC 20460; telephone: 703-347-8579; facsimile: 703-347-8689; or e-mail: gehlhaus.martin@epa.gov.

SUPPLEMENTARY INFORMATION:

I. Information About IRIS

IRIS is a database that contains potential adverse human health effects information that may result from chronic (or lifetime) exposure to specific chemical substances found in the environment. The database (available on the Internet at http://www.epa.gov/iris) contains qualitative and quantitative health effects information for more than 540 chemical substances that may be used to support the first two steps (hazard identification and dose-response evaluation) of a risk assessment process. When supported by available data, the database provides oral reference doses (RfDs) and inhalation reference concentrations (RfCs) for chronic health effects, and oral slope factors and inhalation unit risks for carcinogenic effects. Combined with specific exposure information, government and private entities can use IRIS data to help characterize public health risks of chemical substances in a site-specific situation and thereby support risk management decisions designed to protect public health.

Dated: December 8, 2009.
Rebecca Clark,
Acting Director, National Center for Environmental Assessment.

[FR Doc. E9-30043 Filed 12-16-09; 8:45 am]

BILLING CODE 6560-50-P